DEPARTMENT OF ENERGY

Federal Energy Regulatory Commission

Notice of Revised Restricted Service List for a Programmatic Agreement

BOST3 Hydroelectric LLC | Project No. 12756-003—Louisiana, Red River Lock & Dam No. 3, Hydroelectric Project.
BOST4 Hydroelectric LLC | Project No. 12757-004—Louisiana, Red River Lock & Dam No. 4, Hydroelectric Project.
BOST5 Hydroelectric LLC | Project No. 12758-004—Louisiana, Red River Lock & Dam No. 5, Hydroelectric Project.

Rule 2010 of the Federal Energy Regulatory Commission's (Commissions) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Louisiana State Historic Preservation Officer (Louisiana SHPO) and the Advisory Council on Historic Preservation (Advisory Council) pursuant to the Advisory Council's regulations, 36 CFR Part 800, implementing section 106 of the National Historic Preservation Act as amended (16 U.S.C. 470f), to prepare a programmatic agreement for managing properties included in, or eligible for inclusion in, the National Register of Historic Places that could be affected by issuance of licenses for the Red River Lock & Dam No. 3, the Red River Lock & Dam No. 4, and the Red River Lock & Dam No. 5 projects.

The programmatic agreement, when executed by the Commission, the Louisiana SHPO, and the Advisory Council would satisfy the Commission's section 106 responsibilities for all individual undertakings carried out in accordance with the licenses until the licenses expire or are terminated (36 CFR 800.13(e)).

On April 19, 2012, the Commission staff established a restricted service list for the Red River Lock & Dam No. 3, the Red River Lock & Dam No. 4, and the Red River Lock & Dam No. 5 projects. On October 3, 2012, the Caddo Nation requested to be added to the restricted service list. The restricted service list is supplemented to include: “Robert Cast or Representative, Caddo Nation, P.O. Box 487, Binger, OK 73009.”

Dated: October 5, 2012.
Kimberly D. Bose,
Secretary.

[FR Doc. 2012-25205 Filed 10-12-12; 8:45 am]

BILLING CODE 6717-01-P